DEPARTMENT OF TRANSPORTATION

Federal Aviation Administration

14 CFR Part 39

[Docket No. FAA-2004-19177; Directorate Identifier 2002-NM-202-AD; Amendment 39-13974; AD 2005-04-02]

RIN 2120-AA64

Airworthiness Directives; Dassault Model Falcon 10 Series Airplanes

AGENCY: Federal Aviation Administration (FAA), Department of Transportation (DOT).

ACTION: Final rule.

SUMMARY: The FAA is adopting a new airworthiness directive (AD) for all Dassault Model Falcon 10 series airplanes. This AD requires a temporary change to the airplane flight manual (AFM) to provide procedures to the flightcrew for touchdown using the main landing gear to avoid a three-point landing. This AD also requires repetitive inspections of the piston rod of the drag strut actuator of the nose landing gear (NLG) for cracks, which would terminate the AFM revision, and corrective actions if necessary. In addition, this AD provides for a terminating modification, which would end the repetitive inspections. This AD is prompted by reports of failure of the piston rod of the drag strut actuator of the NLG. The cause of such failure has been attributed to fatigue cracking caused by corrosion in the piston rod of the drag strut actuator. We are issuing this AD to prevent cracking and/or fracture of the piston rod of the drag strut actuator of the NLG, which could result in a gear-up landing, structural damage, and possible injury to passengers and crew.

DATES: This AD becomes effective March 25, 2005.

The incorporation by reference of certain publications listed in the AD is approved by the Director of the Federal Register as of March 25, 2005.

ADDRESSES: For service information identified in this AD, contact Dassault Falcon Jet, P.O. Box 2000, South Hackensack, New Jersey 07606.

You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19177; the directorate identifier for this docket is 2002-NM-202-AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: The FAA proposed to amend 14 CFR part 39 with an AD for all Dassault Model Falcon 10 series airplanes. That action, published in the Federal Register on September 28, 2004 (69 FR 57886), proposed to require a temporary change to the airplane flight manual (AFM) to provide procedures to the flightcrew for touchdown using the main landing gear to avoid a three-point landing. That action also proposed to require repetitive inspections of the piston rod of the drag strut actuator of the nose landing gear (NLG) for cracks, which would terminate the AFM revision, and corrective actions if necessary. In addition, the proposed AD provided a terminating modification, which would end the repetitive inspections.

Comments

We provided the public the opportunity to participate in the development of this AD. We have considered the comments that have been submitted on the proposed AD.

Request To Revise Paragraph (h), Repetitive Inspections

One commenter requests that the proposed AD be revised to allow operators to replace a cracked drag strut actuator with an actuator having the same part number. The commenter states that this should be allowed only once, and that the operators would still have to perform the repetitive inspections specified in paragraph (h)(2) of the proposed AD. The commenter is concerned that there may be a shortage of new, improved drag strut actuators since the parallel French airworthiness directive, 2002-137(B), dated March 20, 2002, does not mandate the replacement of a cracked drag strut actuator with a new, improved actuator.

We agree with the commenter's request. We have revised paragraph (h)(1) of this AD to specify that operators may replace a cracked drag strut actuator with a part having the same part number, or do the terminating modification specified in paragraph (i) of this AD.

Request To Revise Paragraph (m), Part Installation

Two commenters, the airplane manufacturer and one of its subsidiaries, request that paragraph (m) of the proposed AD be revised to specify that only drag strut actuators, part number (P/N) 747721, that fail an ultrasonic inspection as specified in paragraph (h) of the proposed AD may not be reinstalled on the airplane. Specifically, the commenters request to include the text “* * * which has failed the ultrasonic inspection of the piston rod for cracks in accordance with Dassault Service Bulletin F10-294, dated March 20, 2002.” The commenters state that if the piston rod passes an ultrasonic inspection it is acceptable to the airplane manufacturer to allow that drag strut actuator to remain in service on the airplane. The commenters note that, after reading paragraph (m) of the proposed AD, a person could conclude that it is unacceptable to reinstall any drag strut actuator, P/N 747721, if the actuator is removed from the airplane for any reason. One of the commenters states that the additional text is necessary to ensure a suitable number of spare parts are available to operators upon publication of the AD.

We agree with the intent of the commenters' requests. Instead of revising the Parts Installation paragraph included in the proposed AD, we are omitting that paragraph from this AD.

Conclusion

We have carefully reviewed the available data, including the comments that have been submitted, and determined that air safety and the public interest require adopting the AD with the changes described previously. We have determined that these changes will neither increase the economic burden on any operator nor increase the scope of the AD.

Costs of Compliance

This AD affects about 154 airplanes of U.S. registry.

The AFM revision takes about 1 work hour per airplane, at an average labor rate of $65 per work hour. Based on these figures, the estimated cost of the AFM revision required by this AD for U.S. operators is $10,010, or $65 per airplane.

The inspection takes about 1 work hour per airplane, at an average labor rate of $65 per work hour. Based on these figures, the estimated cost of the inspection required by this AD for U.S. operators is $10,010, or $65 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-04-02 Dassault Aviation [Formerly Avions Marcel Dassault-Breguet Aviation (AMD/BA)]: Amendment 39-13974. Docket No. FAA-2004-19177; Directorate Identifier 2002-NM-202-AD.

Effective Date

(a) This AD becomes effective March 25, 2005.

Affected ADs

(b) None.

Applicability

(c) This AD applies to all Dassault Model Falcon 10 series airplanes, certificated in any category.

Unsafe Condition

(d) This AD was prompted by reports of failure of the piston rod of the drag strut actuator of the nose landing gear (NLG). We are issuing this AD to prevent cracking and/or fracture of the piston rod of the drag strut actuator of the NLG, which could result in a gear-up landing, structural damage, and possible injury to passengers and crew.

Compliance

(e) You are responsible for having the actions required by this AD performed within the compliance times specified, unless the actions have already been done.

Airplane Flight Manual (AFM) Revision

(f) Within 5 days after the effective date of this AD: Revise the Limitations Section of the Falcon 10 AFM by incorporating Dassault Temporary Change (TC) 24, dated March 1, 2002, into the AFM. That TC provides procedures to the flightcrew for touchdown using the main landing gear to avoid a three-point landing. Thereafter, operate the airplane in accordance with the limitations specified in the AFM revision.

(g) When the information in TC 24 has been included in general revisions of the AFM, the TC may be removed from the AFM, provided the relevant information in the general revision is identical to that in TC 24.

Repetitive Inspections

(h) Within 7 months after the effective date of this AD: Do an ultrasonic inspection of the piston rod of the drag strut actuator of the NLG for cracks in accordance with Dassault Service Bulletin F10-294, dated March 20, 2002. After the initial inspection has been done, the TC required by paragraph (f) of this AD may be removed from the AFM.

(1) If any crack is found: Before further flight, replace the cracked drag strut actuator with an airworthy part having the same part number, or do the terminating modification specified in paragraph (i) of this AD.

(2) If no crack is found: Repeat the inspection thereafter at intervals not to exceed 700 landings on the drag strut actuator.

Terminating Modification

(i) Accomplishment of the modification of the drag strut actuator in accordance with Dassault Service Bulletin F10-297, dated October 1, 2003, and prior or concurrent accomplishment of the related modification in accordance with Messier-Hispano-Bugatti Falcon 10 Service Bulletin 511-32-26, dated November 9, 1979, ends the repetitive inspections required by paragraph (h)(2) of this AD.

Additional Source of Service Information

(j) Messier-Dowty Service Bulletin 747721-32-057, dated February 5, 2003, is referenced in Dassault Service Bulletin F10-294 as an additional source of service information for replacing the drag strut actuator rod.

Actions Not Required

(k) Dassault Service Bulletin F10-294 recommends returning the drag strut actuator to the component repair agent for replacement if a crack is found, but this AD requires doing the terminating modification specified in paragraph (i) of this AD.

(l) Dassault Service Bulletins F10-294 and F10-297 recommend submitting certain inspection results to the manufacturer. This AD does not require those actions.

Alternative Methods of Compliance (AMOCs)

(m) The Manager, International Branch, ANM-116, Transport Airplane Directorate, FAA, has the authority to approve AMOCs for this AD, if requested in accordance with the procedures found in 14 CFR 39.19.

Related Information

(n) French airworthiness directive 2002-137(B) dated March 20, 2002, also addresses the subject of this AD.

Material Incorporated by Reference

(o) You must use the service information that is specified in Table 1 of this AD to perform the actions that are required by this AD, unless the AD specifies otherwise. The Director of the Federal Register approves the incorporation by reference of those documents in accordance with 5 U.S.C. 552(a) and 1 CFR part 51. For copies of the service information, contact Dassault Falcon Jet, P.O. Box 2000, South Hackensack, New Jersey 07606. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Table 1.—Material Incorporated by Reference
Service information | Revision level | Date
Dassault Service Bulletin F10-294 | Original | Mar. 20, 2002.
Dassault Service Bulletin F10-297 | Original | Oct. 1, 2003.
Dassault Temporary Change 24 to the Falcon 10 Airplane Flight Manual | Original | Mar. 1, 2002.
Messier-Hispano-Bugatti Falcon 10 Service Bulletin 511-32-26 | Original | Nov. 9, 1979.

Issued in Renton, Washington, on February 3, 2005.
Ali Bahrami,
Manager, Transport Airplane Directorate, Aircraft Certification Service.

[FR Doc. 05-2844 Filed 2-17-05; 8:45 am]

BILLING CODE 4910-13-P